DEPARTMENT OF THE INTERIOR

Bureau of Land Management

[ID310-06-1430-EU 252R, IDI-34916]

Notice of Intent To Prepare a Land Use Plan Amendment To Provide for a Proposed Direct Land Sale

AGENCY: Bureau of Land Management, Interior.

ACTION: Notice.

SUMMARY: Pursuant to 43 CFR Part 1600, the Bureau of Land Management (BLM) Upper Snake Field Office (USFO) proposes to amend the Medicine Lodge Resource Management Plan (RMP) to identify a 1.25 acre parcel of public land for disposal in Bonneville County, Idaho. Additionally, the USFO proposes to patent the parcel to Dale E. McDowell, Louise J. Prudhomme, and George McDowell reserving a conservation easement to the United States.

DATES: Comments regarding the proposed plan amendment must be received by April 10, 2006.

ADDRESSES: Written comments should be sent to Wendy Reynolds, Field Manager, Upper Snake Field Office, 1405 Hollipark Drive, Idaho Falls, Idaho 83401.

FOR FURTHER INFORMATION CONTACT: Additional information concerning the proposed plan amendment may be obtained by contacting Deena Teel, NEPA Coordinator, or Skip Staffel, Realty Specialist, at the above address or by calling (208) 524-7500.

SUPPLEMENTARY INFORMATION: The following described public land in Bonneville County, Idaho, will be examined for possible disposal by direct sale under sections 203 and 209 of the Federal Land Policy and Management Act of 1976, 43 U.S.C. 1713 and 1719.

Boise Meridian, Idaho

T. 2 N., R 43 E.,

Sec. 17, N½ NE¼ NE¼ SW¼ NW¼

The land described above contains approximately 1.25 acres.

Upon publication of this notice in the Federal Register, the land described above will be segregated from appropriation under the public land laws, including the mining laws, but not the mineral leasing laws, except for the sale provisions of FLPMA for a period of 270 days.

An environmental assessment will be completed for this action. If the land is found suitable for disposal, the United States would offer it for direct sale to Dale E. McDowell, Louise J. Prudhomme, and George McDowell at fair market value, with a conservation easement retained by the BLM. The public is invited to provide scoping comments on the issues that should be addressed in the preparation of the plan amendment, including; lands, wildlife, migratory birds, recreation, wilderness, range, minerals, cultural resources, watershed/soils, threatened/endangered species, and hazardous materials. Staff specialists representing these resources will make up the planning team. Planning issues will include the same planning criteria originally considered for the Medicine Lodge RMP; however, issues for this amendment are expected to primarily involve the adjustment of land tenure. No public meetings are scheduled.

Current land use planning information is available at the BLM Upper Snake Field Office. Office hours are 7:45 a.m. to 4:30 p.m., Monday through Friday except holidays.

Dated: January 17, 2006.
Wendy Reynolds,
Upper Snake Field Manager.

[FR Doc. E6-2611 Filed 2-23-06; 8:45 am]

BILLING CODE 4310-GG-P